DEPARTMENT OF COMMERCE

International Trade Administration

[A-201-504]

Porcelain-on-Steel Cookware From Mexico: Notice of Extension of Time Limit for Antidumping Duty Administrative Review

AGENCY: Import Administration, International Trade Administration, United States Department of Commerce.

EFFECTIVE DATE: February 3, 2000.

FOR FURTHER INFORMATION CONTACT: Kate Johnson at (202) 482-4929, or David Goldberger at (202) 482-4136, Office of AD/CVD Enforcement, Import Administration, International Trade Administration, U.S. Department of Commerce, 14th Street and Constitution Avenue, N.W., Washington, D.C., 20230.

POSTPONEMENT OF FINAL RESULTS OF ADMINISTRATIVE REVIEW: The Department of Commerce (“the Department”) published the preliminary results of the twelfth administrative review of the antidumping duty order on Porcelain-on-Steel Cookware from Mexico on November 5, 1999 (64 FR 60417). The current deadline for the final results in this review is March 6, 2000. In accordance with section 751(a)(3)(A) of the Tariff Act of 1930 (“the Act”), as amended, the Department finds that it is not practicable to complete this administrative review within the original time frame due to the complex nature of certain issues in this review which require further consideration. Thus, the Department is extending the time limit for completion of the final results until May 3, 2000, which is 180 days after the date on which notice of the preliminary results was published in the Federal Register.

Dated: January 27, 2000.
Susan Kuhbach,
Acting Deputy Assistant Secretary for Import Administration.

[FR Doc. 00-2416 Filed 2-2-00; 8:45 am]

BILLING CODE 3510-DS-P